DEPARTMENT OF JUSTICE

Notice of Lodging of Proposed Consent Decree

In accordance with Departmental Policy, 28 CFR 50.7, notice is hereby given that a proposed Consent Decree in United States v. Robert Desmond, Civ. No. 01-CV-11425-RGS (D. Mass.), was lodged with the United States District Court for the District of Massachusetts on August 20, 2001. This proposed Consent Decree concerns a complaint filed by the United States of America against Robert Desmond, Esq., of Chestnut Hill, Massachusetts, pursuant to section 309 (b), (d) and (g), of the Clean Water Act, 33 U.S.C. 1319 (b), (d) and (g), to obtain injunctive relief and impose civil penalties against the Defendant for unlawfully discharging dredged or fill materials into waters of the United States in Taunton, Bristol County, Massachusetts, for failing to comply with the terms of a March 30, 1998 administrative order, issued in accordance with Clean Water Act section 309(a), 33 U.S.C. 1319(a), requiring the completion of a restoration plan; and for failing to comply with the terms of a June 21, 1998 “Administrative Consent Agreement and Final Order,” under Clean Water Act section 309(g), 33 U.S.C. 1319(g), which directed the Defendant to pay a penalty of $12,500 by July 31, 1998.

The proposed Consent Decree requires the Defendant to pay a civil penalty in the amount of $10,000, for its several alleged violations of the Clean Water Act. The Defendant is required to pay an additional penalty of $48,478.47, reflecting payments owed to the United States under the CAFO, unless the Defendant proves to the satisfaction of the United States, within 90 days of entry of the Consent Decree, that he paid $12,500 to the United States on or before July 31, 1998. Finally, the proposed Consent Decree enjoins the Defendant and his agents from discharging any pollutant into waters of the United States unless such discharge complies with the provisions of the Clean Water Act and its implementing regulations.

The Department of Justice will receive written comments relating to this proposed Consent Decree for thirty (30) days from the date of publication of this notice. Please address comments to the Assistant Attorney General, Environment and Natural Resources Division, Department of Justice, Attention: Joshua M. Levin, P.O. Box 23986, Washington, DC 20026-3986. Please refer to the matter of United States v. Robert Desmond, DJ Reference No. 90-5-1-1-06024.

The proposed Consent Decree may be examined at the Clerk's Office, United States District Court for the District of Massachusetts, John Joseph Moakley U.S. Courthouse, Suite 2300, 1 Courthouse Way, Boston, MA 02210-3002. In addition, the proposed Consent Decree may be viewed on the World Wide Web at http//www.usdoj.gov/enrd/enrd-home.html.

Scott A. Schacter,
Assistant Section Chief, Environmental Defense Section, Environment and Natural Resources Division.

[FR Doc. 01-22447 Filed 9-6-01; 8:45 am]

BILLING CODE 4410-15-M